SECURITIES AND EXCHANGE COMMISSION

[OMB Control No. 3235-XXXX]

Proposed Collection; Comment Request; Request for New OMB Control Number: Form G-FIN, Form G-FINW, Form G-FIN-4, and Form G-FIN-5

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“SEC” or “Commission”) is soliciting comments on the proposed collection of information.

Under Section 15C(a)(1)(B) of the Securities Exchange Act of 1934 (“Act”) and regulations adopted by the Department of the Treasury, certain financial institutions that are government securities brokers or government securities dealers submit information regarding their government securities activities to their appropriate regulatory authority (“ARA”) on the Form G-FIN, 17 CFR 499.1, Form G-FINW, 17 CFR 449.2, Form G-FIN-4, 17 CFR 449.3, and Form G-FIN-5, 17 CFR 449.4. The Commission is designated as the ARA for certain of these financial institutions.¹ These institutions have not been engaged in government securities activities in the past and, therefore, have not been required to file the forms with the Commission. We do not anticipate that these financial institutions will submit the forms in the future, but we are requesting an OMB Control Number in the event circumstances change.

¹ The Commission is the ARA for state chartered banks or state chartered trust companies that are not members of the Federal Reserve System and whose deposits are not insured by the Federal Deposit Insurance Corporation and for any other financial institutions for which the Office of the Comptroller of the Currency, the Board of Governors of the Federal Reserve System, or the Federal Deposit Insurance Corporation is not the ARA.

The information collections in the forms are mandatory and, if any financial institutions are required to file the forms with the Commission, the Commission would use the information to ensure that financial institutions and persons who are or are seeking to be associated persons of financial institutions are in compliance with Section 15C(a)(1)(B) of the Act and with the rules of the Department of the Treasury. As a placeholder, the Commission staff estimates that there would be one respondent per year for each form, and that the estimated annual burden for filing the Form G-FIN is 1.25 hours, the Form G-FINW is .5 hours, the Form G-FIN-4 is 2.25 hours, and the Form G-FIN-5 is 1.25 hours. Information filed on Form G-FIN and Form G-FINW is available to the public, while the information provided by each respondent on Form G-FIN-4 and G-FIN-5 is regarded as confidential.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by September 5, 2025. There will be a second opportunity to comment on this SEC request following the Federal Register publishing a 30-Day Submission Notice.

Dated: July 2, 2025.
Sherry R. Haywood,
Assistant Secretary.

[FR Doc. 2025-12613 Filed 7-7-25; 8:45 am]

BILLING CODE 8011-01-P